DEPARTMENT OF THE INTERIOR

Bureau of Land Management

[15X.LLMTC03200.L51100000.GA0000.LVEME15CE410, MO # 4500080022]

Notice of Availability of the Environmental Assessment for BNI Coal Ltd.'s Coal Lease-by-Application NDM-102083, Oliver County, ND, Notice of Public Hearing, and Request for Comment on Environmental Assessment, Maximum Economic Recovery, and Fair Market Value

AGENCY: Bureau of Land Management, Interior.

ACTION: Notice of availability.

SUMMARY: The Bureau of Land Management (BLM), North Dakota Field Office (NDFO) is publishing this notice to announce that an Environmental Assessment (EA) for BNI Coal, Ltd.'s (BNI) Federal Coal Lease-by-Application (LBA), serial number NDM-102083, is available for public review and comment. The BLM is also announcing that it will hold a public hearing to receive comments on the EA, Fair Market Value (FMV), and Maximum Economic Recovery (MER) of the coal resources contained in the proposed BNI LBA lease tract.

DATES: The public hearing will be held on Tuesday, September 12, 2017, from 4 p.m. to 6 p.m. Written comments should be received no later than October 12, 2017.

ADDRESSES: The public hearing will be held at the Betty Hagel Memorial Civic Center, 312 N. Lincoln Ave., Center, North Dakota. In addition, copies of the EA are available at http://bit.ly/2kyeGoM and the NDFO at the address below. You may submit comments related to the BNI EA, FMV, and MER by any of the following methods:

• Email: BLM_MT_North_Dakota_BNI_LBA@blm.gov;

• Mail: Bureau of Land Management, North Dakota Field Office, Attention: Irma Nansel, Planning and Environmental Coordinator, 99 23rd Avenue West, Suite A, Dickinson, ND 58601.

Submitted comments related to the BNI EA, FMV, and MER for the tract will be available for public inspection at the NDFO address listed above.

FOR FURTHER INFORMATION CONTACT: Irma Nansel, Planning and Environmental Coordinator; telephone: 406-233-3653; or at the address and email provided in the ADDRESSES section. Persons who use a telecommunications device for the deaf (TDD) may call the Federal Relay Service at 1-800-877-8339 to contact the above individual during normal business hours. The Service is available 24 hours a day, 7 days a week, to leave a message or question for the above individual. You will receive a reply during normal business hours.

SUPPLEMENTARY INFORMATION: On November 7, 2014, BNI submitted an amended application to lease a 160-acre tract of Federal coal located in Oliver County, North Dakota. The BLM's EA analyzes and discloses the potential direct, indirect, and cumulative impacts of leasing and subsequent mining of the proposed 160-acre coal tract. The lease tract is located at the Center Mine and contains 2.43 million tons of in-place Federal coal resources. Due to adverse geologic conditions, BNI intends to mine approximately 1.69 million tons of coal from the tract. The tract underlies private surface and is described as follows:

Fifth Principal Meridian, North Dakota

T. 141 N., R. 83 W.,

Sec. 18, NE¼.

The area described contains 160 acres.

Through this notice, the BLM is inviting the public to provide comments regarding the potential environmental impacts related to the proposed action, and also to submit comments on the FMV and the MER for the proposed LBA tract. All public comments, whether written or oral, will receive consideration prior to the BLM's decision regarding the leasing of the Federal coal contained in the tract.

Public comments on the EA should address the potential environmental impacts of the proposed action. Public comments on the FMV and MER for the proposed lease tract may address, but do not have to be limited to, the following:

1. The quality and quantity of the Federal coal resource;

2. The mining method or methods to be employed to obtain the MER of the coal, including the name of the coal bed(s) to be mined, timing and rate of production, restriction of mining, and the inclusion of the tracts in an existing mining operation;

3. The price that the mined coal would bring when sold;

4. Costs, including mining and reclamation costs, of producing the coal and the anticipated timing of production;

5. The percentage rate at which anticipated income streams should be discounted, either with inflation, or in the absence of inflation, in which case the anticipated rate of inflation should be given;

6. Depreciation, depletion, amortization, and other tax accounting factors; and

7. The value of any privately held mineral or surface estate in the Center Mine area.

Any proprietary information or data that you submit to the BLM must be marked as confidential to assure the data will be treated in accordance with the applicable laws and regulations governing the confidentiality of such information or data. A copy of the comments submitted by the public on the EA, FMV, and MER for the tract, except those portions identified as proprietary and that meet one of the exemptions in the Freedom of Information Act, will be available for public inspection at the BLM NDFO, at the address listed above, during regular business hours (8 a.m. to 4:30 p.m.), Monday through Friday.

Before including your address, phone number, email address, or other personal identifying information in your comment, you should be aware that your entire comment—including your personal identifying information—may be made public at any time. While you may request in your comment to withhold your personal identifying information from public review, the BLM cannot guarantee that this will occur.

Authority: 40 CFR 1506.6; 43 CFR 3425.3, and 3425.4.

Jon Raby,
BLM Montana/Dakotas Acting State Director.

[FR Doc. 2017-17782 Filed 8-22-17; 8:45 am]

BILLING CODE 4310-DN-P